DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration (OSHA) announces that OMB extended approval for the information collection requirements found in OSHA's standards and its requirements on non-regulatory collections outlined in this notice. OSHA sought approval of these requirements under the Paperwork Reduction Act of 1995 (PRA), and as required by that Act, is announcing the approval numbers and expiration dates for these requirements and regulations.

DATES: April 13, 2022.

FOR FURTHER INFORMATION CONTACT: Seleda Perryman or Theda Kenney, Directorate of Standards and Guidance, OSHA, U.S. Department of Labor, telephone (202) 693-2222.

SUPPLEMENTARY INFORMATION: In a series of Federal Register notices, the agency provided 60-day comment periods for the public to respond to OSHA's burden hour and cost estimates. The various information collection (paperwork) requirements in the safety and health standards pertain to general industry, shipyards, maritime, construction, and agriculture (i.e., 29 CFR parts 1910, 1915, 1926, and 1928) and its requirements on the listed regulations.

In accordance with the PRA (44 U.S.C. 3501-3520), OMB approved these information collection requirements. The table below provides the following information for each of these requirements approved by OMB: the title of the Federal Register notice; the Federal Register citation (date, volume, and leading page); OSHA docket number; OMB's Control Number; and the new expiration date.

In accordance with 5 CFR 1320.5(b), an agency cannot conduct, sponsor, or require a response to a collection of information unless the collection displays a valid OMB control number, and the agency informs respondents that they need not respond to the collection of information.

Title of the information collection request | Date of Federal Register publication, Federal Register citation, and OSHA docket No. | OMB control No. | Expiration date
Anhydrous Ammonia Storage and Handling (29 CFR 1910.111) | June 3, 2020, 85 FR 34251, Docket No. OSHA-2010-0050 | 1218-0219 | 09/30/2024
Asbestos in Construction Standard (29 CFR 1926.1101) | June 3, 2021, 86 FR 32980, Docket No. OSHA-2012-0002 | 1218-0134 | 12/31/2024
Beryllium Standard for General Industry (29 CFR 1910.1024), Construction (29 CFR 1926.1124), and Maritime (29 CFR 1915.1024) | February 3, 2020, 85 FR 5996, Docket No. OSHA-2019-0010 | 1218-0267 | 06/30/2024
Beryllium in General Industry (29 CFR 1910.1024) | July 26, 2021, 86 FR 40083, Docket No. OSHA-2019-0010 | 1218-0267 | 03/31/2025
Bloodborne Pathogens (29 CFR 1910.1030) | April 27, 2021, 86 FR 22276, Docket No. OSHA-2010-0047 | 1218-0180 | 03/31/2025
Concrete and Masonry Construction (29 CFR part 1926, subpart Q) | May 20, 2020, 85 FR 30740, Docket No. OSHA-2010-0040 | 1218-0095 | 06/30/2024
Confined Spaces in Construction (29 CFR part 1926, subpart AA) | February 26, 2021, 86 FR 11796, Docket No. OSHA-2017-0014 | 1218-0258 | 09/30/2024
Control of Hazardous Energy (Lockout/Tagout) (29 CFR 1910.147) | December 23, 2020, 85 FR 84004, Docket No. OSHA-2011-0033 | 1218-0150 | 08/31/2024
Cotton Dust (29 CFR 1910.1043) | April 27, 2021, 86 FR 22277, Docket No. OSHA-2011-0194 | 1218-0061 | 09/30/2024
Covid-19 Emergency Temporary Standard (29 CFR part 1910, subpart U) | June 21, 2021, 86 FR 32376, Docket No. OSHA-2020-0004 | 1218-0277 | 03/31/2025
Cranes and Derricks in Construction (29 CFR part 1926, subpart CC) | February 26, 2020, 85 FR 11115, Docket No. OSHA-2013-0021 | 1218-0261 | 07/31/2024
Electrical Protective Equipment Standard (29 CFR 1926.97 and 29 CFR 1910.137) and the Electric Power Generation, Transmission, and Distribution Standard (29 CFR part 1926 and 29 CFR 1910.269) | June 26, 2020, 85 FR 38391, Docket No. OSHA-2017-0005 | 1218-0253 | 06/30/2024
Electrical Standards for Construction (29 CFR part 1926, subpart K) and for General Industry (29 CFR part 1910, subpart S) | May 13, 2021, 86 FR 26237, Docket No. OSHA-2011-0187 | 1218-0130 | 10/31/2024
Excavations (Design of Cave-In Protection Systems (29 CFR part 1926, subpart P) | October 21, 2020, 85 FR 67013, Docket No. OSHA-2011-0057 | 1218-0137 | 05/31/2024
Fire Brigades Standard (29 CFR 1910.156) | August 03, 2020, 85 FR 46731, Docket No. OSHA-2011-0009 | 1218-0075 | 02/29/2024
Forging Machines (29 CFR 1910.218) | December 21, 2020, 85 FR 83107, Docket No. OSHA-2011-0064 | 1218-0228 | 08/31/2024
Fire Protection in Shipyard Employment (29 CFR part 1915, subpart P) | November 12, 2020, 85 FR 71949, Docket No. OSHA-2011-0010 | 1218-0248 | 06/30/2024
General Provisions and Confined and Enclosed Spaces and Other Dangerous Atmospheres in Shipyard Employment (29 CFR part 1915) | December 23, 2020, 85 FR 84006, Docket No. OSHA-2011-0034) | 1218-0011 | 09/30/2024
Gear Certification; OSHA 70 Form (29 CFR part 1919) | May 20, 2020, 85 FR 30738, Docket No. OSHA-2010-0042 | 1218-0003 | 03/31/2024
Grain Handling Facilities (29 CFR 1910.272) | November 23, 2020, 85 FR 74765, Docket No. OSHA-2011-0028 | 1218-0206 | 05/31/2024
Hazard Communication Standard (29 CFR 1910.1200, 1915.1200, 1917.28, 1918.90, 1926.59 and 1928.21) | July 21, 2020, 85 FR 44108, Docket No. OSHA-2009-0014 | 1218-0072 | 02/29/2024
Hydrostatic Testing Provision of the Standard on Portable Fire Extinguishers (29 CFR 1910.157(3)) | July 13, 2020, 85 FR 42024, Docket No. OSHA-2010-0025 | 1218-0218 | 03/31/2024
Ionizing Radiation (29 CFR 1910.1096) | June 29, 2020, 85 FR 38931, Docket No. OSHA 2010-0030 | 1218-0103 | 08/31/2024
Material Hoists, Personnel Hoists, and Elevators; Posting Requirements (29 CFR 1926.552) | November 12, 2020, 85 FR 71947, Docket No. OSHA-2010-0052 | 1218-0231 | 05/31/2024
Mechanical Power Presses (29 CFR 1910.217(3)) | October 28, 2020, 85 FR 68371, Docket No. OSHA-2010-0026 | 1218-0229 | 08/31/2024
Notice of Alleged Safety and Health Hazard (OSHA-7 Form) | May 11, 2020, 85 FR 27765, Docket No. OSHA-2010-0056 | 1218-0064 | 07/31/2024
Occupational Safety and Health Onsite Consultation Agreements (29 CFR part 1908) | October 20, 2021, 86 FR 58104, Docket No. OSHA-2011-0125 | 12`8-0110 | 02/28/2025
Overhead and Gantry Cranes (29 CFR 1910.179) | August 18, 2020, 85 FR 50838, Docket No. OSHA-2010-0023 | 1218-0224 | 02/29/2024
Personal Protective Equipment for General Industry (29 CFR part 1910, subpart I) | September 9, 2019, 84 FR 47325, Docket No. OSHA-2009-0028 | 1218-0205 | 07/31/2024
Portable Fire Extinguishers Standard (Annual Maintenance Certification Record) (29 1910.157(e)(3)) | July 23, 2020, 85 FR 44548, Docket No. OSHA-2010-0039 | 1218-0238 | 07/31/2024
Powered Industrial Trucks (29 CFR 1910.178) | October 16, 2020, 85 FR 65876, Docket No. OSHA-2011-0062 | 1218-0242 | 05/31/2024
Powered Platforms for Building Maintenance (29 CFR 1910.66) | June18, 2020, 85 FR 32883, Docket No. OSHA-2010-0048 | 1218-0121 | 03/31/2024
Reports of Injuries to Employees Operating Mechanical Power Presses (29 CFR 1910.217(g)) | July 26, 2021, 86 FR 40082, Docket No. OSHA 2012-0017 | 1218-0070 | 03/31/2025
Requirements for the OSHA Training Institute Education Centers Program and the OSHA Outreach Training Program | May 28, 2020, 85 FR 32052, Docket No. OSHA-2009-0022 | 1218-0262 | 03/31/2024
Respiratory Protection (29 CFR 1910.134) | April 9, 2021, 86 FR 18557, Docket No. OSHA-2011-0027 | 1218-0099 | 02/29/2024
Safe + Sound Campaign | December 9, 2020, 85 FR 79222, Docket No. OSHA-2017-0013 | 1218-0269 | 07/31/2024
Servicing Multi-Piece and Single Piece Rim Wheels (29 CFR 1910,177) | April 2, 2021, 86 FR 17410, Docket No. OSHA-2011-0189 | 1218-0219 | 09/30/2024
Shipyard Employment Standards (29 CFR part 1915) | April 27, 2021, 86 FR 22279, Docket No. OSHA-2011-0190 | 1218-0220 | 09/30/2024
Steel Erection (29 CFR part 1926, subpart R) | October 19, 2020, 85 FR 66360, Docket No. OSHA-2011-0055 | 1218-0241 | 08/31/2024
Susan Harwood Training Grant Program Grantee Quarterly Progress Report | April 28, 2020, 85 FR 23534, Docket No. OSHA-2010-0021 | 1218-0100 | 03/31/2024
Underground Construction (29 CFR 1926.800) | August 30, 2020, 85 FR 45926, Docket No. OSHA-2011-0029 | 1218-0067 | 08/31/2024
Voluntary Protection Program Information | December 23, 2020, 85 FR 84007, Docket No. OSHA-2011-0056 | 1218-0239 | 07/31/2024

Authority and Signature

James S. Frederick, Deputy Assistant Secretary for Occupational Safety and Health directed the preparation of this notice. The authority for this notice is the Paperwork Reduction Act of 1995 (44 U.S.C. 3506 et seq.) and Secretary of Labor's Order No. 1-2012 (77 FR 3912).

Signed at Washington, DC, on April 6, 2022.
James S. Frederick,
Deputy Assistant Secretary for Occupational Safety and Health.

[FR Doc. 2022-07872 Filed 4-12-22; 8:45 am]

BILLING CODE 4510-26-P